DEPARTMENT OF THE INTERIOR

National Park Service

[NPS-WASO-NAGPRA-NPS0038296; PPWOCRADN0-PCU00RP14.R50000]

Notice of Inventory Completion: University of California, Davis, Davis, CA

AGENCY: National Park Service, Interior.

ACTION: Notice.

SUMMARY: In accordance with the Native American Graves Protection and Repatriation Act (NAGPRA), the University of California, Davis (UC Davis) has completed an inventory of human remains and associated funerary objects and has determined that there is a cultural affiliation between the human remains and associated funerary objects and Indian Tribes or Native Hawaiian organizations in this notice.

DATES: Repatriation of the human remains and associated funerary objects in this notice may occur on or after August 19, 2024.

ADDRESSES: Megon Noble, NAGPRA Project Manager, University of California, Davis, 412 Mrak Hall, One Shields Avenue, Davis, CA 95616, telephone (530) 752-8501, email mnoble@ucdavis.edu.

SUPPLEMENTARY INFORMATION: This notice is published as part of the National Park Service's administrative responsibilities under NAGPRA. The determinations in this notice are the sole responsibility of UC Davis and additional information on the determinations in this notice, including the results of consultation, can be found in the inventory or related records. The National Park Service is not responsible for the determinations in this notice.

Abstract of Information Available

Based on the information available, human remains representing, at least, four individuals have been reasonably identified. There are a total of 4,015 lots of associated funerary objects (102 of which are currently missing). The 3,913 lots of present associated funerary objects are one clay pipe, two bone ornaments, two shaft straighteners, three bone needles, four charmstones, five bone flakers, five fire-cracked rock, five net sinkers, eight point blanks, eight stone beads/ornaments, 10 worked stone, 21 haliotis beads and shell, 36 ochre, 44 worked bone, 56 awls, 59 fired clay, 62 soil samples, 76 historic glass/possible quartz, 95 clamshell disc beads and shell, 101 groundstone, 124 unworked stone/minerals, 138 projectile points, 147 charcoal, 172 unmodified shell, 179 miscellaneous shell beads and ornaments, 197 unmodified bone, 240 plant/miscellaneous organic material, 281 debitage, 357 chipped stone, 1,475 Olivella beads and shell. The 102 lots of currently missing associated funerary objects are three charcoal, three chipped stone, three clamshell disc beads, five soil samples, five projectile points, nine groundstone, 15 plant/miscellaneous organic material, 17 unworked stone, 41 Olivella beads and shell, and one lot of unidentified missing material. UC Davis conducted a field school, directed by Charles Slaymaker, at CA-NAP-539 (Accession 265) in 1980.

Cultural Affiliation

Based on the information available and the results of consultation, cultural affiliation is clearly identified by the information available about the human remains and associated funerary objects described in this notice.

Determinations

UC Davis has determined that:

• The human remains described in this notice represent the physical remains of four individuals of Native American ancestry.

• The 4,015 objects described in this notice are reasonably believed to have been placed intentionally with or near individual human remains at the time of death or later as part of the death rite or ceremony.

• There is a reasonable connection between the human remains and associated funerary objects described in this notice and the Cachil DeHe Band of Wintun Indians of the Colusa Indian Community of the Colusa Rancheria, California; Kletsel Dehe Wintun Nation of the Cortina Rancheria (previously listed as Kletsel Dehe Band of Wintun Indians); and the Yocha Dehe Wintun Nation, California.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after August 19, 2024. If competing requests for repatriation are received, UC Davis must determine the most appropriate requestor prior to repatriation. Requests for joint repatriation of the human remains and associated funerary objects are considered a single request and not competing requests. UC Davis is responsible for sending a copy of this notice to the Indian Tribes and Native Hawaiian organizations identified in this notice.

Authority: Native American Graves Protection and Repatriation Act, 25 U.S.C. 3003, and the implementing regulations, 43 CFR 10.10.

Dated: July 10, 2024.
Melanie O'Brien,
Manager, National NAGPRA Program.

[FR Doc. 2024-15894 Filed 7-18-24; 8:45 am]

BILLING CODE 4312-52-P